DEPARTMENT OF JUSTICE

Notice of Lodging of Proposed Consent Decree Under the Clean Water Act

On August 17, 2015, the Department of Justice lodged a proposed Consent Decree with the United States District Court for the Eastern District of Pennsylvania in the lawsuit entitled United States of America and the Commonwealth of Pennsylvania, Department of Environmental Protection v. Delaware County Regional Water Quality Control Authority (DELCORA), Civil Action No. 15-4652.

This action addresses the combined sewer system in the City of Chester, and throughout Delaware County, PA. The lawsuit seeks civil penalties and injunctive relief pursuant to sections 309(b) and (d) of the Clean Water Act, 33 U.S.C. 1319 (b) and (d), for violations including failure to develop a Long Term Control Plan (LTCP), unpermitted sewage discharges, and effluent limit exceedances. The proposed Consent Decree requires DELCORA to develop and implement an LTCP and a Nine Minimum Controls plan to control combined sewer overflows and bring its combined sewer system into good operation and maintenance, and to pay a civil penalty of $1,375,000. The proposed Consent Decree also resolves concurrent claims under the Pennsylvania Clean Streams Law alleged in the Joint Complaint by the Commonwealth of Pennsylvania Department of Environmental Protection.

The publication of this notice opens a period for public comment on the Consent Decree. Comments should be addressed to the Assistant Attorney General, Environment and Natural Resources Division, and should refer to United States and the Commonwealth of Pennsylvania, Department of Environmental Protection v. Delaware County Regional Water Quality Control Authority (DELCORA), D.J. Ref. No. 90-5-1-1-10972. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $16.00 (25 cents per page reproduction cost) payable to the United States Treasury.

Robert Brook,
Assistant Section Chief, Environmental Enforcement Section, Environment and Natural Resources Division.

[FR Doc. 2015-20620 Filed 8-20-15; 8:45 am]

BILLING CODE 4410-15-P